DEPARTMENT OF COMMERCE

National Oceanic and Atmospheric Administration

50 CFR Part 622

[Docket No. 250325-0049]

RIN 0648-BD32

Comprehensive Fishery Management Plans for Puerto Rico, St. Croix, and St. Thomas and St. John; Correction

AGENCY: National Marine Fisheries Service (NMFS), National Oceanic and Atmospheric Administration (NOAA), Commerce.

ACTION: Final rule; correcting amendment.

SUMMARY: NMFS corrects the final rule that implemented management measures described in the Puerto Rico, St. Croix, and St. Thomas and St. John Fishery Management Plans (collectively, island-based FMPs), which published in the Federal Register on September 13, 2022. Among other measures, the final rule revised species tables in Appendix A to part 622 and inadvertently removed banded rudderfish from the South Atlantic snapper-grouper species table. The purpose of this correcting amendment is to fix this inadvertent error.

DATES: This correction is effective March 31, 2025.

FOR FURTHER INFORMATION CONTACT: Sarah Stephenson, Southeast Regional Office, NMFS, 727-824-5305, sarah.stephenson@noaa.gov.

SUPPLEMENTARY INFORMATION: On September 22, 2020, the Secretary of Commerce approved the island-based FMPs under section 304(a)(3) of the Magnuson-Stevens Fishery Conservation and Management Act (Magnuson-Stevens Act). On September 13, 2022, NMFS published a final rule in the Federal Register (87 FR 56204) to implement management measures in the island-based FMPs, pursuant to section 304(b)(3) of the Magnuson-Stevens Act, which became effective on October 13, 2022. Pursuant to section 305(d) of the Magnuson-Stevens Act, NMFS is issuing a correcting amendment to the final rule.

Correction

The regulatory text of the final rule implementing the island-based FMPs inadvertently removed banded rudderfish from Table 2 to Appendix A (South Atlantic Snapper-Grouper) under the table sub-heading for Carangidae—Jacks. Through this correcting amendment, NMFS corrects Table 2 to Appendix A of 50 CFR part 622 by re-inserting banded rudderfish to the list of species under the entry for Carangidae—Jacks. The island-based FMPs and the implementing final rule did not revise regulations for species managed by the South Atlantic Fishery Management Council. Banded rudderfish was included in Table 2 to Appendix A in the proposed rule published in the Federal Register on May 19, 2022 (87 FR 30730). Banded rudderfish remains a species managed under the snapper-grouper fishery management unit (FMU) in the South Atlantic and its inclusion is consistent with the Snapper-Grouper FMP.

Classification

NMFS is issuing this rule pursuant to section 305(d) of the Magnuson-Stevens Act. Pursuant to section 305(d), this action is necessary to be consistent with management of the South Atlantic snapper-grouper fishery management unit under the FMP for the Snapper-Grouper Fishery of the South Atlantic Region. The NMFS Assistant Administrator (AA) has determined that this final rule is consistent with the island-based FMPs, the Magnuson-Stevens Act, and other applicable law.

This final rule has been determined to be not significant under Executive Order 12866.

Pursuant to 5 U.S.C. 553(b)(B), the AA finds good cause to waive prior notice and opportunity for additional public comment because it would be unnecessary and contrary to the public interest. This correcting amendment restores a species currently managed in the snapper-grouper FMU that was inadvertently removed from Table 2 to Appendix A. Providing prior notice and opportunity for public comment is unnecessary and contrary to the public interest because the Caribbean island-based FMPs did not consider or analyze removal of banded rudderfish from Table 2, and because the regulations that correctly included banded rudderfish as part of Table 2 to Appendix A have already been subject to notice and public comment. Providing an additional opportunity for public comment would add unnecessary delay to the correct version of Table 2 with banded rudderfish in the list of species in the snapper-grouper FMU. Further, retaining the incorrect version of Table 2 will continue to cause confusion about the species managed under the snapper-grouper FMU, which are applicable to management measures contained in the Snapper-Grouper FMP.

For the same reasons, the AA also finds good cause, pursuant to 5 U.S.C. 553(d)(3), to waive the 30-day delay in effective date for this correcting amendment.

Because prior notice and opportunity for public comment are not required for this rule by 5 U.S.C. 553, or any other law, this rule is exempt from the procedures of the Regulatory Flexibility Act. Accordingly, no Regulatory Flexibility Analysis is required and none has been prepared.

This final rule contains no information collection requirements under the Paperwork Reduction Act of 1995.

List of Subjects in 50 CFR Part 622

Caribbean, Commercial, Fisheries, Fishing, Recreational.

Dated: March 25, 2025.
Samuel D. Rauch III,
Deputy Assistant Administrator for Regulatory Programs, National Marine Fisheries Service.

Accordingly, 50 CFR part 622 is corrected by making the following correcting amendment:

PART 622—FISHERIES OF THE CARIBBEAN, GULF OF MEXICO, AND SOUTH ATLANTIC

1. The authority citation for part 622 continues to read as follows:

Authority: 16 U.S.C. 1801 et seq.

2. In Appendix A to Part 622, amend table 2, under the sub-heading Carangidae—Jacks, by adding an entry at the end of the list for “Banded rudderfish, Seriola zonata” to read as follows:

* * * * *

Table 2 to Appendix A to Part 622—South Atlantic Snapper-Grouper
* * * * *
Carangidae—Jacks
* * * * *
Banded rudderfish, Seriola zonata
* * * * *

* * * * *

[FR Doc. 2025-05362 Filed 3-28-25; 8:45 am]

BILLING CODE 3510-22-P